COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List commodities and services to be furnished by nonprofit agencies employing persons who are blind or have other severe disabilities, and to delete commodities and services previously furnished by such agencies.

COMMENTS MUST BE RECEIVED ON OR BEFORE: April 9, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Marker, Dry Erase

7520-00-NIB-1429

7520-00-NIB-1430

7520-00-NIB-1431

7520-00-NIB-1432

7520-00-NIB-1433

7520-00-NIB-1434

7520-00-NIB-1435

7520-00-NIB-1436

NPA: Dallas Lighthouse for the Blind, Inc., Dallas, Texas

Table, Field Operating

6530-01-321-5592

NPA: Arizona Industries for the Blind, Phoenix, Arizona

Wipes, White Board

7510-01-454-1159

NPA: Winston-Salem Industries for the Blind, Winston-Salem, North Carolina

Services

Food Service Attendant

Fort Custer Training Center, 2725 27th Street, Augusta, Michigan

NPA: Calhoun County Community Mental Health Services Board, Battle Creek, Michigan

Janitorial/Custodial

U.S. Army Reserve Center, Aberdeen Proving Ground, Aberdeen, Maryland

NPA: CHI Centers, Inc., Silver Spring, Maryland

Office Supply Store

Defense Supply Service-Washington, Presidential Towers, Arlington, Virginia

NPA: Virginia Industries for the Blind, Richmond, Virginia

Provision of Customized Recognition & Awards Program

NPA: The Lighthouse for the Blind, Inc., Seattle, Washington

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodities and services have been proposed for deletion from the Procurement List:

Commodities

Stepladder, Fiberglass

5440-00-061-8898

5440-00-061-8900

5440-01-110-7763

5440-01-460-5352

5440-01-460-5363

5440-01-460-5364

Stepladder, Wood

5440-00-227-1592

Printing and Binding “En Garde” Newsletter

7690-00-NSH-0079

Securities & Exchange Commission Confidential Microfiche

7690-00-NSH-0083

Services

Food Service

Pascagoula Naval Station

Pascagoula, Mississippi

Management of Bachelors Quarters

Pascagoula Naval Station

Pascagoula, Mississippi

Louis R. Bartalot,
Deputy Director (Operations).

[FR Doc. 01-5914 Filed 3-8-01; 8:45 am]

BILLING CODE 6353-01-P